DEPARTMENT OF VETERANS AFFAIRS

Department of Veterans Affairs National Academic Affiliations Council, Notice of Meeting

The Department of Veterans Affairs (VA) gives notice under the Federal Advisory Committee Act, 5 U.S.C. ch. 10, that the VA National Academic Affiliations Council (NAAC) will meet via conference call on December 4, 2024, from 1 p.m. to 3 p.m., eastern standard time. The meeting is open to the public.

The purpose of the Council is to advise the Secretary on matters affecting partnerships between VA and its academic affiliates.

On December 4, 2024, the Council will receive project updates and have discussions on actions affecting the educational mission of VA. The Council will receive oral public comments from 2:25 p.m. to 2:55 p.m. EST.

Interested persons may attend and/or present oral statements to the Council.

The dial in number to attend the conference call is: 669 254 5252. At the prompt, enter meeting ID 161 789 6622, then press #. The meeting passcode is 267962 then press #. Individuals seeking to present oral statements are invited to submit a 1-2-page summary of their comments at the time of the meeting for inclusion in the official meeting record. Oral presentations will be limited to five minutes or less, depending on the number of participants. Interested parties may also provide written comments for review by the Council prior to the meeting or at any time, by email to Nellie.Mitchell@va.gov, or by mail to Nellie Mitchell, MS, RHIA, Designated Federal Officer, Office of Academic Affiliations (14AA), 810 Vermont Avenue NW, Washington, DC 20420. Any member of the public wishing to participate or seeking additional information should contact Ms. Mitchell via email or by phone at 608-358-9902.

Dated: November 7, 2024.
Jelessa M. Burney,
Federal Advisory Committee Management Officer.

[FR Doc. 2024-26238 Filed 11-12-24; 8:45 am]

BILLING CODE 8320-01-P